ENVIRONMENTAL PROTECTION AGENCY

[EPA-R06-OW-2022-0603; FRL-6179.1-02-R6]

Final NPDES General Permit for New and Existing Sources and New Dischargers in the Offshore Subcategory of the Oil and Gas Extraction Category for the Western Portion of the Outer Continental Shelf of the Gulf of Mexico (GMG290000)

AGENCY: Environmental Protection Agency (EPA).

ACTION: Notice of final NPDES general permit issuance.

SUMMARY: The Director of the Water Division, Environmental Protection Agency (EPA), Region 6 provides in this notice that the National Pollutant Discharge Elimination System (NPDES) General Permit No. GMG290000 for existing and new sources and new dischargers in the Offshore Subcategory of the Oil and Gas Extraction Point Source Category, located in and discharging to the Outer Continental Shelf offshore of Louisiana and Texas was reissued on May 11, 2023 with an effective date of May 11, 2023. The discharge of produced water to that portion of the Outer Continental Shelf from Offshore Subcategory facilities located in the territorial seas of Louisiana and Texas is also authorized by this permit.

DATES: This permit was issued May 11, 2023, is effective on May 11, 2023, and expires May 10, 2028. This effective date is necessary to provide dischargers with the immediate opportunity to comply with Clean Water Act (CWA) requirements in light of the expiration of the 2022 permit on September 30, 2022. In accordance with 40 CFR part 23, this permit shall be considered issued for the purpose of judicial review on June 16, 2023. Under section 509(b) of the CWA, judicial review of this general permit can be held by filing a petition for review in the United States Court of Appeals within 120 days after the permit is considered issued for judicial review. Under section 509(b)(2) of the CWA, the requirements in this permit may not be challenged later in civil or criminal proceedings to enforce these requirements. In addition, this permit may not be challenged in other agency proceedings. Deadlines for submittal of notices of intent are provided in Part I.A.2 of the permit.

FOR FURTHER INFORMATION CONTACT: Ms. Evelyn Rosborough, Water Division, Region 6 (6-WDPE), U.S. Environmental Protection Agency, 1201 Elm Street, Dallas, Texas 75270. Telephone: (214) 665-7515. Email: rosborough.evelyn@epa.gov.

SUPPLEMENTARY INFORMATION:

I. Background

Notice of the proposal of the draft permit was published in the Federal Register on July 22, 2022. EPA Region 6 has considered all comments received and makes several significant changes as listed below. A copy of the Region's responses to comments and the final permit may be found online from the Federal eRulemaking Portal: https://www.regulations.gov at Docket ID No EPA-R06-OW-2022-0603. Significant changes include:

1. Well, heads, pipelines, jumpers and associated infrastructures connected to the facility are considered part of the host facility even when the infrastructure crosses lease block boundaries.

2. NOI requirements allow for all vessels, to be able to file one valid NOI when performing jobs in the same lease block, if jobs are performed for the same designated operator.

3. Operators who filed under the previous permit have an additional 30 days to submit eNOI, if the system is unavailable during the 60 day renewal period. These operators are covered under the reissued permit for up to 90 days.

4. Only new operators, not covered under the previous permit, can submit temporary NOIs when system is unavailable. Due date and coverage for temporary NOI extended 14 days, after the system becomes available, if the system remains unavailable after 14 days.

5. Removed continuous monitoring language from cooling water intake requirements.

6. Removed the additional requirements for a signed agreement for transfers.

7. Flow rate monitoring for Well Treatment Fluids, Completion Fluids, and Workover Fluids.

8. Characteristic Assessment requirements for Well Treatment Fluids, Completion Fluids, and Workover Fluids have been removed.

9. For Sanitary Waste, all limits must be complied with in the event the Marine Sanitation Device is not properly operating or not operating.

10. Cooling water intake structure operation for New Fixed Facilities that Employ Sea Chests as Intake Structures and New Fixed Facilities that do not employ sea chests as intake structures require development, and implementation of operation and maintenance plans, with reporting requirements for numeric exceedances.

11. All facilities are subject to monitoring requirements if they discharged during said monitoring period, regardless of whether the discharge lasted the full period.

12. Methods and/or calculations for estimated flow must be documented.

13. Sample type for oil and grease is grab or composite.

14. The use of other disinfection technologies, including, but not limited to, bio membrane filtration and ultra-violet light are allowed as substitutes for systems that use chlorine, provided that the MSD is approved by the U.S. Coast Guard and results in equivalent or improved disinfection of the Sanitary Waste stream to that considered in the ELG. TRC monitoring is not required for alternative MSDs that do not use chlorine, when the system is not properly operating or not operating, unless a chlorine based product is used as a backup disinfectant.

15. Operators must flush and capture the materials contained in pipelines, umbilicals, and other equipment prior to disconnection. No releases or discharges of fluid from pipelines, umbilicals, and/or other equipment that have not been fully flushed prior to being disconnected or cut from the facility are authorized under this NPDES permit.

16. Calculation for WET critical dilutions and testing frequencies is based on calendar year.

17. Waiver for the minimum number of samples to be collected for WET tests, should the effluent cease discharging for produced water.

18. For Treatment, Completion, and Workover discharges, acute WET results can be derived from chronic WET test.

19. Compliance schedule for WET acute limits related to Treatment, Completion, and Workover discharges and sample holding time of 72 hours.

20. No approved Alternative Test Procedure (ATP) for WET, however they can be requested at any time following 40 CFR 136.5.

21. 72 hour hold time for WET samples for Chemically Treated Miscellaneous Discharges.

22. For Chemically Treated Miscellaneous Discharges, non-continuous discharges are discharges that occur less than or equal to once per week and last less than 24 hours. These discharges shall be monitored once per discharge.

23. State general permit or state individual permit may be required in addition to authorization under this permit.

24. Defines decommissioning and Subsea Cleaning Fluids.

25. 7-day chronic toxicity requirements for Well Treatment Fluids, Completion Fluids, and Workover Fluids has been moved from limitations to monitoring section, to provide clarity that chronic is monitoring only.

26. Free oil language has been updated to reference DMRs and twenty-four hour reporting requirements.

27. Part I.C. reflects Other Limitations, Prohibitions and Discharges not Authorized. Moved Limitations on Coverage section in Part I.A.1 to Part I.C for Prohibitions and Discharges Not Authorized.

28. Permit does not authorize radioactive materials that are under the jurisdiction of the NRC.

29. Miscellaneous Discharges of Water Which Have Been Chemically Treated includes discharges from well operations other than those covered by other sections of Part I.B of the permit.

30. Corrections to the Permit Summary Table. Table is for reference only.

31. Corrected data for Discharge Monitoring Reports (DMRs) and Other Reports must be submitted as soon as the error has been identified but no later than the following quarter. Submittal of corrected data does not excuse any permit violation.

32. If Offshore 24-Hour Reporting Application Portal is not available, an email shall be sent within 24 hours of occurrence of specified violations and electronic report shall be submitted within 14 days of the system becoming available.

33. A facility map that delineates authorized discharge locations and type must be submitted, as an attachment, when filing the eNOI.

34. Language has been updated to specify that new operators are not eligible for coverage and existing operators may not submit new NOI's during the administraive continued period.

35. Updated language to provide clarity that timely updates to “CDX” are required, in lieu of “eNOI.”

36. Numeric exceedances of maximum through-screen design intake velocity and dates must also be included on DMRs, for all new facilities required to comply with intake structure monitoring requirements.

37. Definition of Mobile Offshore Drilling Unit (MODU) has been removed from the permit because it does not exist in the Code of Federal Regulations. Part I.A.2 has been updated to provide examples of MODUs.

38. Civil and administrative penalty amounts have been updated to reflect updated statutory amounts.

39. Once a month temperature monitoring for produced water.

II. Other Legal Requirements

Other statutory and regulatory requirements are discussed in the fact sheet that include: Oil Spill Requirement; Ocean Discharge Criteria Evaluation; Marine Protection, Research, and Sanctuaries Act; National Environmental Policy Act; Magnuson-Stevens Fisheries Conservation and Management Act; Endangered Species Act; State Water Quality Standards and State Certification; Coastal Zone Management Act; and Paperwork Reduction Act.

Under Executive Order 12866 (58 FR 51735, October 4, 1993), this action is a “significant regulatory action.” Accordingly, EPA submitted this action to the Office of Management and Budget (OMB) for review under Executive Orders 12866 and 13563 (76 FR 3821, January 21, 2011) and any changes made in response to OMB recommendations have been documented in the docket for this action.

Charles W. Maguire,
Director, Water Division, EPA Region 6.

[FR Doc. 2023-11770 Filed 6-1-23; 8:45 am]

BILLING CODE 6560-50-P